DEPARTMENT OF ENERGY

Federal Energy Regulatory Commission

Combined Notice of Filings

Take notice that the Commission has received the following Natural Gas Pipeline Rate and Refund Report filings:

Filings Instituting Proceedings

Docket Numbers: RP19-51-003.

Applicants: Bear Creek Storage Company, L.L.C.

Description: Compliance filing Bear Creek Cost and Revenue Study Compliance Filing in RP19-51.

Filed Date: 4/1/19.

Accession Number: 20190401-5192.

Comments Due: 5 p.m. ET 4/15/19.

Docket Numbers: RP19-1029-000.

Applicants: American Midstream (AlaTenn), LLC.

Description: Filing Withdrawal: Order 587-Y Withdrawal.

Filed Date: 4/2/19.

Accession Number: 20190402-5178.

Comments Due: 5 p.m. ET 4/15/19.

Docket Numbers: RP19-1030-000.

Applicants: American Midstream (Midla), LLC.

Description: Filing Withdrawal: Order 587-Y Withdrawal.

Filed Date: 4/2/19.

Accession Number: 20190402-5179.

Comments Due: 5 p.m. ET 4/15/19.

Docket Numbers: RP19-1031-000.

Applicants: Destin Pipeline Company, L.L.C.

Description: Filing Withdrawal: Order 587-Y Withdrawal.

Filed Date: 4/2/19.

Accession Number: 20190402-5180.

Comments Due: 5 p.m. ET 4/15/19.

Docket Numbers: RP19-1032-000.

Applicants: High Point Gas Transmission, LLC.

Description: Filing Withdrawal: Order 587-Y Withdrawal.

Filed Date: 4/2/19.

Accession Number: 20190402-5181.

Comments Due: 5 p.m. ET 4/15/19.

Docket Numbers: RP19-1033-000.

Applicants: Trans-Union Interstate Pipeline, L.P.

Description: Filing Withdrawal: Order 587-Y Withdrawal.

Filed Date: 4/2/19.

Accession Number: 20190402-5182.

Comments Due: 5 p.m. ET 4/15/19.

Docket Numbers: RP19-1098-000.

Applicants: Trunkline Gas Company, LLC.

Description: § 4(d) Rate Filing: Definitions Filing to be effective 6/1/2019.

Filed Date: 4/2/19.

Accession Number: 20190402-5012.

Comments Due: 5 p.m. ET 4/15/19.

Docket Numbers: RP19-1099-000.

Applicants: Rover Pipeline LLC.

Description: § 4(d) Rate Filing: Summary of Negotiated Rate Capacity Release Agreements on 4-2-19 to be effective 4/1/2019.

Filed Date: 4/2/19.

Accession Number: 20190402-5026.

Comments Due: 5 p.m. ET 4/15/19.

Docket Numbers: RP19-1101-000.

Applicants: Texas Eastern Transmission, LP.

Description: Compliance filing Stratton Ridge (CP17-56) In-Service Compliance Filing to be effective 6/1/2019.

Filed Date: 4/2/19.

Accession Number: 20190402-5160.

Comments Due: 5 p.m. ET 4/15/19.

Docket Numbers: RP19-1102-000.

Applicants: Empire Pipeline, Inc.

Description: § 4(d) Rate Filing: Tariff Rep Name Change (Empire) to be effective 5/2/2019.

Filed Date: 4/2/19.

Accession Number: 20190402-5168.

Comments Due: 5 p.m. ET 4/15/19.

Docket Numbers: RP19-1103-000.

Applicants: National Fuel Gas Supply Corporation.

Description: § 4(d) Rate Filing: Tariff Rep Name Change (Supply) to be effective 5/2/2019.

Filed Date: 4/2/19.

Accession Number: 20190402-5170.

Comments Due: 5 p.m. ET 4/15/19.

Docket Numbers: RP19-1104-000.

Applicants: Transcontinental Gas Pipe Line Company.

Description: § 4(d) Rate Filing: List of Non-Conforming Service Agreements (St. James, ASR, and Turnback) to be effective 5/1/2019.

Filed Date: 4/2/19.

Accession Number: 20190402-5214.

Comments Due: 5 p.m. ET 4/15/19.

Docket Numbers: RP19-995-001.

Applicants: Texas Gas Transmission, LLC.

Description: Tariff Amendment: Amendment to Docket No. RP19-995-000 to be effective 4/1/2019.

Filed Date: 4/2/19.

Accession Number: 20190402-5150.

Comments Due: 5 p.m. ET 4/15/19.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2019.
Nathaniel J. Davis, Sr.,
Deputy Secretary.

[FR Doc. 2019-06973 Filed 4-8-19; 8:45 am]

BILLING CODE 6717-01-P